Executive Order 14275 of April 15, 2025

Restoring Common Sense to Federal Procurement

By the authority vested in me as President by the Constitution and the laws of the United States of America, it is hereby ordered:

Section 1. Purpose. The Federal Government is the largest buyer of goods and services in the world—yet conducting business with the Federal Government is often prohibitively inefficient and costly. More than 40 years ago, the Federal Acquisition Regulation (FAR) was implemented to establish uniform procedures for acquisitions across executive departments and agencies (agencies). The “vision” of the Federal Acquisition System, codified at section 1.102 of the FAR, is to “deliver on a timely basis the best value product or service to the customer, while maintaining the public's trust and fulfilling public policy objectives[,]” but since its inception, the FAR has swelled to more than 2,000 pages of regulations, evolving into an excessive and overcomplicated regulatory framework and resulting in an onerous bureaucracy.

Federal procurement under the FAR receives consistently negative assessments regarding its efficiency. Comprehensive studies such as the 2024 Senate committee report entitled “Restoring Freedom's Forge” and the 2019 report by the Advisory Panel on Streamlining and Codifying Acquisition Regulations, created by the National Defense Authorization Act for Fiscal Year 2016 (Public Law 114-92) and made up of experts in acquisition and procurement policy, conclude that the FAR is a barrier to, rather than a prudent vehicle for, doing business with the Federal Government. Its harmful effects permeate various items paid for by American taxpayers, from commercial products like laptops and office supplies to major defense weapons systems. The management and expenditure of nearly $1 trillion annually in procurements cannot continue on this trajectory. Fortunately, its inadequacies are self-inflicted and can be remedied through a comprehensive reform of the FAR.

Executive Order 14192 of January 31, 2025 (Unleashing Prosperity Through Deregulation), established that the policy of the executive branch is to be prudent and financially responsible in the expenditure of funds and to alleviate unnecessary regulatory burdens placed on the American people. Reforming the FAR will advance this objective.

Sec. 2. Policy. It is the policy of the United States to create the most agile, effective, and efficient procurement system possible. Removing undue barriers, such as unnecessary regulations, while simultaneously allowing for the expansion of the national and defense industrial bases is paramount. Accordingly, the FAR should contain only provisions required by statute or essential to sound procurement, and any FAR provisions that do not advance these objectives should be removed.

Sec. 3. Definitions. (a) “FAR” means the Federal Acquisition Regulation codified at title 48 of the Code of Federal Regulations.

(b) “Administrator” refers to the Administrator of the Office of Federal Public Procurement Policy.

(c) “Agency” means an executive department, a military department, or any independent establishment within the meaning of 5 U.S.C. 101, 102, and 104(1), respectively, and any wholly owned Government corporation within the meaning of 31 U.S.C. 9101.

Sec. 4. Reforming the Federal Acquisition Regulation. Within 180 days of the date of this order, the Administrator, in coordination with the other members of the Federal Acquisition Regulatory Council (FAR Council), the heads of agencies, and appropriate senior acquisition and procurement officials from agencies, shall take appropriate actions to amend the FAR to ensure that it contains only provisions that are required by statute or that are otherwise necessary to support simplicity and usability, strengthen the efficacy of the procurement system, or protect economic or national security interests.

Sec. 5. Aligning Agency Supplements to the FAR.

(a) Within 15 days of the date of this order, each agency exercising procurement authority pursuant to the FAR shall designate a senior acquisition or procurement official to work with the Administrator and the FAR Council to ensure agency alignment with FAR reform and to provide recommendations regarding any agency-specific supplemental regulations to the FAR. The Administrator, the FAR Council, and each agency designee under this subsection shall collaborate to identify and appropriately address FAR provisions that are inconsistent with the policy objectives described in section 2 of this order.

(b) Within 20 days of the date of this order, the Director of the Office of Management and Budget, in consultation with the Administrator, shall issue a memorandum to agencies that provides guidance regarding implementation of this order. That memorandum shall ensure consistency and alignment of policy objectives and implementation regarding changes to the FAR and agencies' supplemental regulations to the FAR.

(c) The memorandum issued pursuant to subsection (b) of this section shall propose new agency supplemental regulations and internal guidance that promote expedited and streamlined acquisitions. With respect to such proposals, the Administrator shall direct the appropriate agency and its subordinate agencies to adhere to the ten-for-one requirement described in Executive Order 14192.

(d) The Administrator and the FAR Council shall issue deviation and interim guidance, as appropriate and consistent with applicable law, until final rules reforming the FAR are published.

Sec. 6. Regulatory Sunset. In amending the FAR under section 4 of this order, the Administrator, in coordination with the FAR Council, shall:

(a) identify all FAR provisions not required by statute that will remain in the FAR;

(b) consider amending the FAR such that any provisions identified in accordance with subsection (a) of this section will expire 4 years after the effective date of the final rule promulgated in accordance with section 4 of this order unless renewed by the FAR Council; and

(c) consider whether any new FAR provision not required by statute that is promulgated after the effective date of the final rule promulgated in accordance with subsection (b) of this section should include a provision stating that it will expire 4 years after its effective date unless renewed by the FAR Council.

Sec. 7. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 15, 2025.

[FR Doc. 2025-06839

Filed 4-17-25; 8:45 am]

Billing code 3395-F4-P